DEPARTMENT OF TRANSPORTATION

Office of the Secretary

Notice of Applications for Certificates of Public Convenience and Necessity and Foreign Air Carrier Permits Filed Under Subpart Q During the Week Ending January 14, 2000

The following Applications for Certificates of Public Convenience and Necessity and Foreign Air Carrier Permits were filed under Subpart Q of the Department of Transportation's Procedural Regulations (See 14 CFR 302.1701 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2000-6777.

Dated Filed: January 11, 2000.

Due Date for Answers, Conforming Applications, or Motions to Modify Scope: February 8, 2000.

Description: Application of Trans Borinquen Air, Inc. pursuant to 49 U.S.C. Section 41102 and Subpart Q, applies for a certificate of public convenience and necessity authorizing Foreign Charter Air Transportation between the United States, Puerto Rico, Dominican Republic and the Caribbean.

Dorothy W. Walker,
Federal Register Liaison.

[FR Doc. 00-1729 Filed 1-24-00; 8:45 am]

BILLING CODE 4910-62-P